DEPARTMENT OF AGRICULTURE

Animal and Plant Health Inspection Service

[Docket No. APHIS-2010-0055]

Notice of Request for Approval of an Information Collection; National Animal Health Monitoring System; Dairy Heifer Raiser 2010 Study

AGENCY: Animal and Plant Health Inspection Service, USDA.

ACTION: New information collection; comment request.

SUMMARY: In accordance with the Paperwork Reduction Act of 1995, this notice announces the Animal and Plant Health Inspection Service’s intention to initiate an information collection to support the National Animal Health Monitoring System Dairy Heifer Raiser 2010 Study.

DATES: We will consider all comments that we receive on or before October 25, 2010.

ADDRESSES: You may submit comments by either of the following methods:

• Federal eRulemaking Portal: Go to (http://www.regulations.gov/fdmspublic/component/main?main=DocketDetail&d=APHIS-2010-0055) to submit or view comments and to view supporting and related materials available electronically.

• Postal Mail/Commercial Delivery: Please send one copy of your comment to Docket No. APHIS-2010-0055, Regulatory Analysis and Development, PPD, APHIS, Station 3A-03.8, 4700 River Road Unit 118, Riverdale, MD 20737-1238. Please state that your comment refers to Docket No. APHIS-2010-0055.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at (http://www.aphis.usda.gov).

FOR FURTHER INFORMATION CONTACT: For information on the Dairy Heifer Raiser 2010 Study, contact Ms. Sandra Warnken, Management and Program Analyst, Centers for Epidemiology and Animal Health, VS, APHIS, 2150 Centre Avenue, Building B MS 2E3, Fort Collins, CO 80526; (970) 494-7193. For copies of more detailed information on the information collection, contact Mrs. Celeste Sickles, APHIS’ Information Collection Coordinator, at (301) 851-2908.

SUPPLEMENTARY INFORMATION: Title: National Animal Health Monitoring System; Dairy Heifer Raiser 2010 Study.

OMB Number: 0579-xxxx.

Type of Request: Approval of a new information collection.

Abstract: Under the Animal Health Protection Act (7 U.S.C. 8301 et seq.), the Animal and Plant Health Inspection Service (APHIS) of the United States Department of Agriculture (USDA) is authorized, among other things, to protect the health of our Nation’s livestock and poultry populations by preventing the introduction and interstate spread of serious diseases and pests of livestock and for eradicating such diseases from the United States when feasible. In connection with this mission, APHIS operates the National Animal Health Monitoring System (NAHMS), which collects nationally representative, statistically valid, and scientifically sound data on the prevalence and economic importance of livestock diseases and associated risk factors.

NAHMS’ national studies have evolved into a collaborative industry and government initiative to help determine the most effective means of preventing and controlling diseases of livestock. APHIS is the only agency responsible for collecting data on livestock health. Participation in any NAHMS study is voluntary, and all data are confidential.

APHIS plans to conduct the Dairy Heifer Raiser 2010 Study in cooperation with the Dairy Calf and Heifer Association (DCHA) and participating States. Because the respondent universe or population cannot be precisely defined, APHIS has asked DCHA and participating States to assist in identifying and contacting dairy heifer raising operations. This is a small population that has never been studied previously. We believe this population, which includes small farm operations, is important because the movement of animals between these operations and commercial dairy operations could potentially facilitate the transmission of critically important diseases, such as tuberculosis (TB) and bovine viral diarrhea (BVD). The 17 States targeted for the study participated in the NAHMS Dairy 2007 Study and account for approximately 82 percent of the dairy cow population in the United States and 80 percent of U.S. operations with dairy cows.

The purpose of this study is to collect information through a questionnaire to:

• Provide preliminary information on animal health and management practices for dairy heifer raising operations.

• Evaluate the biosecurity risks associated with the dairy heifer raising operations, e.g., commingling cattle from multiple operations and exposing young cattle to Mexican cattle.

• Assist in the development of a biosecurity assessment that can be used to evaluate the risk of disease transmission, e.g., TB and BVD, on dairy heifer raising operations.

The study will consist of a questionnaire to be mailed to and completed by participating producers or administered by APHIS-designated data collectors (primarily personnel from participating States). The information collected through the Dairy Heifer Raiser 2010 Study will be analyzed and organized into descriptive reports for DCHA members and each participating State and a summary report. Information will be disseminated to and used by a variety of constituents, including producers, veterinarians, stakeholders, academia, and others. The data will help APHIS address emerging issues and examine the impact of selected animal health management practices.

We are asking the Office of Management and Budget (OMB) to approve our use of this information collection activity for 3 years.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 0.878 hours per response.

Respondents: Dairy heifer raisers in 17 States.

Estimated annual number of respondents: 1,000.

Estimated annual number of responses per respondent: 1.

Estimated annual number of responses: 1,000.

Estimated total annual burden on respondents: 878 hours. (Due to averaging, the total annual burden hours may not equal the product of the annual number of responses multiplied by the reporting burden per response.)

All responses to this notice will be summarized and included in the request for OMB approval. All comments will also become a matter of public record.

Done in Washington, DC, this 20th day of August 2010.

Kevin Shea
Acting Administrator, Animal and Plant Health Inspection Service.

[FR Doc. 2010-21292 Filed 8-25-10; 8:45 am]

BILLING CODE 3410-34-S